DEPARTMENT OF THE INTERIOR

Fish and Wildlife Service

[FWS-R5-R-2010-N269; BAC-4311-K9-S3]

Canaan Valley National Wildlife Refuge, Tucker and Grant Counties, WV; Final Comprehensive Conservation Plan and Finding of No Significant Impact for Environmental Assessment

AGENCY: Fish and Wildlife Service, Interior.

ACTION: Notice of availability.

SUMMARY: We, the U.S. Fish and Wildlife Service (Service), announce the availability of the final comprehensive conservation plan (CCP) and finding of no significant impact (FONSI) for the environmental assessment (EA) for Canaan Valley National Wildlife Refuge (NWR). In this final CCP, we describe how we will manage this refuge for the next 15 years.

ADDRESSES: You may view or obtain copies of the final CCP and FONSI by any of the following methods. You may request a hard copy or a CD-ROM.

Agency Web site: Download a copy of the document(s) at http://www.fws.gov/northeast/planning/Canaan%20Valley/ccphome.html.

E- mail: Send document requests to northeastplanning@fws.gov. Include “Canaan Valley NWR CCP” in the subject line of your e-mail.

U.S. Postal Service: Send document requests to Ken Sturm, Acting Refuge Manager, Canaan Valley NWR, 6263 Appalachian Highway, Davis, WV 26260-8061.

Fax: Attention: Ken Sturm, 304-866-3852.

FOR FURTHER INFORMATION CONTACT: Ken Sturm, Acting Refuge Manager, Canaan Valley NWR, 6263 Appalachian Highway, Davis, WV 26260-8061; phone: 304-866-3858; electronic mail: ken_sturm@fws.gov.

SUPPLEMENTARY INFORMATION:

Introduction

With this notice, we finalize the CCP process for Canaan Valley NWR. We started this plan's development through a notice in the Federal Register (72 FR 2709) on January 22, 2007. We released the draft CCP/EA to the public, announcing and requesting comments in a notice of availability in the Federal Register (75 FR 30423) on June 1, 2010.

The 16,193-acre Canaan Valley NWR was established in 1994 to conserve and protect fish and wildlife resources and the unique wetland and upland habitats of this high-elevation valley. The refuge is located in Tucker County, WV, and has an approved acquisition boundary of 24,000 acres. It includes the largest wetland complex in the State, and encompasses the headwaters of the Blackwater and Little Blackwater Rivers. The refuge supports species of concern at both the Federal and State levels, including the West Virginia northern flying squirrel, bald eagle, and the Federally listed Cheat Mountain salamander and Indiana bat. Its dominant habitats include wet meadows, peatlands, shrub and forested swamps, beaver ponds and streams, northern hardwood forest, old fields and shrubland, and managed grassland.

Refuge visitors engage in wildlife observation and photography, environmental education, interpretation, hunting, and fishing. Management activities include maintaining and perpetuating the ecological integrity of the Canaan Valley wetland complex, perpetuating the ecological integrity of upland northern hardwood and northern hardwood-conifer forests to sustain wildlife and plant communities, providing a diversity of successional habitats in upland and wetland-edge shrublands, grasslands, old fields, and hardwood communities, and supporting wildlife-dependent recreation and education.

We announce our decision and the availability of the FONSI for the final CCP for Canaan Valley NWR in accordance with National Environmental Policy Act (NEPA) (40 CFR 1506.6(b)) requirements. We completed a thorough analysis of impacts on the human environment, which we included in the draft CCP/EA.

The CCP will guide us in managing and administering Canaan Valley NWR for the next 15 years. Alternative B, as we described in the draft CCP/EA, is the foundation for the final CCP.

Background

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Administration Act.

CCP Alternatives, Including the Selected Alternative

Our draft CCP/EA (75 FR 30423) addressed several key issues, including the improvement of early successional habitat, the creation of trail connections on- and off-refuge, and the need for better hunter access.

To address these issues and develop a plan based on the purposes for establishing the refuge, and the vision and goals we identified, four alternatives were evaluated in the EA. The alternatives have some actions in common, such as protecting cultural resources, controlling invasive plant species, encouraging research that benefits our resource decisions, continuing to acquire land from willing sellers within our approved refuge boundary, and distributing refuge revenue-sharing payments to counties.

Other actions distinguish the alternatives. Alternative A, or the “No Action Alternative,” is defined by our current management activities. It serves as the baseline against which to compare the other three alternatives. Our habitat management and visitor services programs would not change under this alternative. We would continue to use the same tools and techniques, and not expand existing facilities.

Alternative B, the “Service-Preferred Alternative,” is designed to balance the conservation of a mixed-forest matrix landscape with the management of early successional habitats and the protection of wetlands. The habitat-type objectives in the plan identify focal species whose life and growth requirements would guide management activities in each respective habitat. We would facilitate the removal of more deer from the refuge by increasing access and opening more lands to rifle hunting, and we would officially open the refuge to fishing. We would create more trail connections, expand visitor center hours, build a new environmental education pavilion, and increase the number of environmental education and interpretation programs.

In Alternative C, we would increase access and infrastructure to support more priority public uses than any of the other alternatives. We would create a cross-valley trail that would run east-west through the northern part of the valley, and we would allow limited off-trail use in a designated area. With an increase in public access and infrastructure development, we anticipate a greater need for monitoring and control of invasive plants. We would also encourage additional research that would assess whether increased public use affects wildlife behavior, including nesting, feeding, and resting. Within the biological objectives, differences between this alternative and the others are more subtle, but generally emphasize early successional habitat management over forest stand improvement.

Alternative D strives to establish and maintain the ecological integrity of natural communities within the refuge. Management would range from passive, or “letting nature take its course,” to actively manipulating vegetation to create or hasten the development of mature forest structural conditions shaped by natural disturbances such as infrequent fires, ice storms, and small patch blow-downs. Under this alternative, no particular wildlife species would be a management focus. We would promote research and development of applied management practices to sustain and enhance the natural composition, patterns, and processes within their natural range in the Central Appalachian Forest. We would limit new visitor services infrastructure to already disturbed areas. We would enhance hunting and fishing opportunities in ways similar to Alternatives B and C.

Comments

We solicited comments on the draft CCP/EA for Canaan Valley NWR from June 1, 2010, to July 16, 2010 (75 FR 30423). During the comment period, we received 312 responses, both oral and written. All comments we received were evaluated. A summary of those comments and our responses to them is included as Appendix J in the CCP.

Selected Alternative

After considering the comments we received on our draft CCP/EA, we have selected Alternative B for implementation, for several reasons. Alternative B comprises the mix of actions that, in our professional judgment, works best towards achieving refuge purposes, our vision and goals, and the goals of other State and regional conservation plans. We also believe it most effectively addresses the key issues raised during the planning process. The basis of our decision is detailed in the FONSI, located in Appendix K of the CCP.

Public Availability of Documents

You can view or obtain documents as indicated under ADDRESSES.

Dated: January 19, 2011.
Wendi Weber,
Acting Regional Director, U.S. Fish and Wildlife Service.

[FR Doc. 2011-4043 Filed 3-7-11; 8:45 am]

BILLING CODE 4310-55-P